DEPARTMENT OF JUSTICE

Notice of Lodging of Consent Decree Pursuant to the Comprehensive Environmental Response, Compensation, and Liability Act

In accordance with Department of Justice policy, 28 CFR 50.7., notice is hereby given that a proposed consent decree in the action entitled United States of America v. Chemical Leaman Tank Lines, Inc. (Civil No. 00CV5715 (SSB), was lodged on November 21, 2000, with the United States District Court for the District of New Jersey. The proposed consent decree resolves claims of the United States and the State of New Jersey under the Comprehensive Environmental Response, Compensation, and Liability Act of 1980, as amended (“CERCLA”), 42 U.S.C. 9607, against Chemical Leaman Tank Lines, Inc. (hereinafter, defendant) for natural resources damages with respect to the Chemical Leaman Tank Lines Superfund Site (“Site”) in Logan Township, Gloucester County, New Jersey.

Under the terms of the proposed consent decree, defendant will pay the Natural Resources Trustees for the United States and for the State of New Jersey Department of Environmental Protection (“State”) the total sum of $4,200,000, for reimbursement of assessment costs and damages to natural resources at the Site. Of the total sum, assessment costs to be paid to the United States and to the States are $27,739.00 and $20,000.00 respectively. Of the total sum, the United States will receive $500,000.00 and the State will receive $3,652,261.00 for natural resources damages. Pursuant to a Cooperative Agreement to be entered into between the United States and the State, all monies paid pursuant to the Consent Decree, except for the monies paid for assessment costs, shall only be spent for the purchase of and restoration of wetlands and associated uplands; lands to be acquired will require unanimous consent of the United States and State Trustees.

The Department of Justice will receive, for a period of thirty (30) days from the date of this publication, comments relating to the proposed consent decree. Comments should be address to the Assistant Attorney General, Environment and Natural Resources Division, U.S. Department of Justice, P.O. Box 7611, Ben Franklin Station, Washington, D.C. 20044-7611, and should refer to United States of America v. Chemical Leaman Tank Lines, Inc. (Civil No. 00CV5715 (SSB)), DOJ Ref. No. 90-11-2-296/1.

The proposed consent decree may be examined at the offices of the United States Department of the Interior, Office of the Solicitor, One Gateway Center, Suite 612, Newton Corner, MA 02485-2802, and at the Office of the United States Attorney, District of New Jersey, Camden Federal Building and Courthouse, 4th Floor, 401 Market Street, Camden, New Jersey 08101. A copy may be obtained by mail from the Consent Decree Library, U.S. Department of Justice, P.O. Box 7611, Ben Franklin Station, Washington, D.C. 20044-7611. In requesting a copy by mail, please refer to the referenced case and enclose a check in the amount of $5.25 for the Consent Decree (25 cents per page reproduction costs) made payable to Consent Decree Library. A copy of the Appendices to the Consent Decree can be ordered by enclosing a check for $78.25 made payable to the Consent Decree Library (25 cents per page reproduction costs).

Bruce S. Gelber,
Chief, Environmental Enforcement Section, Environment and Natural Resources Division.

[FR Doc. 00-31771 Filed 12-13-00; 8:45 am]

BILLING CODE 4410-15-M